ENVIRONMENTAL PROTECTION AGENCY

40 CFR Parts 720, 721, and 723

[EPA-HQ-OPPT-2014-0650; FRL-9952-69]

Significant New Uses of Chemical Substances; Updates to the Hazard Communication Program and Regulatory Framework; Minor Amendments To Reporting Requirements for Premanufacture Notices; Reopening of Comment Period

AGENCY: Environmental Protection Agency (EPA).

ACTION: Proposed rule; Reopening of comment period.

SUMMARY: In the Federal Register of July 28, 2016, EPA proposed to amend the hazard communication program and aspects of the regulatory framework for significant new uses of chemical substances and reporting requirements for premanufacture notices under the Toxic Substances Control Act. This document reopens the comment period for 30 days. A commenter requested additional time to submit written comments for the proposed rule. EPA believes that the request is reasonable and is therefore reopening the comment period in order to give all interested persons the opportunity to comment fully.

DATES: The comment period for the proposed rule published on July 28, 2016 (81 FR 49598) (FRL-9944-47) is reopened. Comments, identified by docket identification (ID) number EPA-HQ-OPPT-2014-0650 must be received on or before November 21, 2016.

ADDRESSES: As specified in the Federal Register document of July 28, 2016 (81 FR 49598) (FRL-9944-47), submit your comments, identified by docket identification (ID) number EPA-HQ-OPPT-2014-0650, by one of the following methods:

Federal eRulemaking Portal: http://www.regulations.gov. Follow the online instructions for submitting comments. Do not submit electronically any information you consider to be Confidential Business Information (CBI) or other information whose disclosure is restricted by statute.

Mail: Document Control Office (7407M), Office of Pollution Prevention and Toxics (OPPT), Environmental Protection Agency, 1200 Pennsylvania Ave. NW., Washington, DC 20460-0001.

Hand Delivery: To make special arrangements for hand deliver or delivery of boxed information, please follow the instructions at: http://www.epa.gov/dockets/contacts.html. Additional instructions on commenting or visiting the docket, along with more information about dockets generally, is available at http://www.epa.gov/dockets.

FOR FURTHER INFORMATION CONTACT: For technical information contact: Jim Alwood, Chemical Control Division, Office of Pollution Prevention and Toxics, Environmental Protection Agency, 1200 Pennsylvania Ave. NW., Washington, DC 20460-0001; telephone number: (202) 564-8974; email address: alwood.jim@epa.gov.

For general information contact: The TSCA-Hotline, ABVI-Goodwill, 422 South Clinton Ave., Rochester, NY 14620; telephone number: (202) 554-1404; email address: TSCA-Hotline@epa.gov.

For general information contact: The TSCA-Hotline, ABVI-Goodwill, 422 South Clinton Ave., Rochester, NY 14620; telephone number: (202) 554-1404; email address: TSCA-Hotline@epa.gov.

SUPPLEMENTARY INFORMATION:

This document reopens the public comment period established in the Federal Register document of July 28, 2016 (81 FR 49598) (FRL-9944-47). In that document, EPA proposed amendments to the hazard communication program and regulatory framework for significant new uses of chemical substances and reporting requirements for premanufacture notices. EPA is hereby reopening the comment period for 30 days.

To submit comments, or access the docket, please follow the detailed instructions provided under ADDRESSES in the Federal Register document of July 28, 2016. If you have questions, consult the technical person listed under FOR FURTHER INFORMATION CONTACT.

List of Subjects in 40 CFR Parts 720, 721, and 723

Environmental protection, Chemicals, Hazardous materials, Recordkeeping, and Reporting requirements.

Dated: October 7, 2016.
Jeff Morris,
Acting Director, Office of Pollution Prevention and Toxics.

[FR Doc. 2016-25440 Filed 10-20-16; 8:45 am]

BILLING CODE 6560-50-P